DEPARTMENT OF EDUCATION

[CFDA No. 84.103A]

Office of Postsecondary Education; Training Program for Federal TRIO Programs (Training Program); Notice Inviting Applications for New Awards for Fiscal Year (FY) 2002

Purpose of Program: To improve the operation of projects funded under the Federal TRIO Programs, the Training Program provides grants to train staff and leadership personnel employed in, participating in or preparing for employment in, projects funded under those programs.

Eligible Applicants: Institutions of higher education; and other public and private nonprofit institutions and organizations. We suggest that applicants read the “Dear Applicant letter” included in the application package before completing the Training Program application.

Applicaitons Available: February 15, 2002.

Deadline for Transmittal of Applications: April 5, 2002.

Deadline for Intergovernmental Review: June 10, 2002.

Estimated Available Funds: The Administration has set aside $6,325,000 for this program for FY 2002.

Estimated Range of Awards: $170,000-$290,000.

Estimated Average Size of the Awards: $250,000.

Estimated Number of Awards: 15-26.

Project Period: Up to 24 months.

Note: The Department is not bound by any estimates in this notice.

Page Limit: The application narrative (Part III of the application) is where you, the applicant, address the selection criteria that reviewers use to evaluate your application. You must limit Part III to the equivalent of no more than 50 pages using the following standards:

• A “page” is 8.5″ × 11″, on one side only, with 1″ margins at the top, bottom, and both sides.

• Double space (no more than three lines per vertical inch) all text in the application narrative, including titles, headings, footnotes, quotations, references, and captions, as well as all text in charts, tables, figures, and graphs.

• Use a font that is either 12 point, or larger or no smaller than 10 pitch (characters per inch).

The page limit does not apply to Part I, the cover sheet; Part II, the budget section, including the narrative budget justification; Part IV, the assurances and certifications; or the one-page abstract, the resumes, the bibliography, or the letters of support. However, you must include all of the application narrative in Part III.

We will reject your application if—

• You apply these standards and exceed the page limit; or

• You apply other standards and exceed the equivalent of the page limit.

Applicable Regulations: (a) The Education Department General Administrative Regulations (EDGAR) in 34 CFR parts 74, 75, 77, 79, 82, 85, 86, 97, 98, and 99; and, (b) The regulations for this program in 34 CFR part 642.

Priorities: Under 34 CFR 75.105(b), this competition focuses on projects designed to meet one of the following nine priorities (34 CFR 642.34 and 20 U.S.C. 1070a-17(b)(4)).

(1) Legislative and regulatory requirements for the operation of the Federal TRIO Programs.

(2) Student financial aid.

(3) The design and operation of model programs for projects funded under the Federal TRIO Programs.

(4) Use of educational technology.

(5) General project management for new directors.

(6) Retention and graduation strategies.

(7) Counseling.

(8) Reporting student and project performance.

(9) Coordinating project activities with other available resources and activities.

An applicant can submit only one application per priority. A single application cannot address more than one priority.

Under 34 CFR 75.105(c)(2)(i) we award up to an additional 8\1/3\ points to an application, depending on how well the application meets one of the priorities listed under the Priorities section of this notice.

FOR APPLICATIONS AND FURTHER INFORMATION CONTACT: Virginia Mason, Training Program for Federal TRIO Programs, U.S.Department of Education, Office of Federal TRIO Programs, 1990 K Street, NW., Suite 7000, Washington, DC 20006-8510.Telephone: 202-502-7600 or via Internet: virginia.mason@ed.gov.

If you use a telecommunications device for the deaf(TDD), you may call the Federal Information Relay Service(FIRS) at 1-800-877-8339.

Individuals with disabilities may obtain this document in an alternative format (e.g., Braille, large print, audiotape, or computer diskette) on request to the program contact person listed under FOR APPLICATIONS AND FURTHER INFORMATION CONTACT.

Individuals with disabilities may obtain a copy of the application package in an alternative format by contacting that person. However, the Department is not able to reproduce in an alternative format the standard forms included in the application package.

Electronic Access to This Document

You may view this document, as well as all other Department of Education documents published in the Federal Register, in text or Adobe Portable Document Format(PDF) on the Internet at the following site: www.ed.gov/legislation/FedRegister.

To use PDF you must have the Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Program Authority: 20 U.S.C. 1070a-17.

Dated: February 6, 2002.
Kenneth W. Tolo,
Acting Deputy Assistant Secretary for Policy, Planning and Innovation, Office of Postsecondary Education.

[FR Doc. 02-3238 Filed 2-8-02; 8:45 am]

BILLING CODE 4000-01-P